DEPARTMENT OF COMMERCE

Internatonal Trade Administration

[A-580-885]

Phosphor Copper From the Republic of Korea: Final Results of the First Expedited Sunset Review of the Antidumping Duty Order

AGENCY: Enforcement and Compliance, International Trade Administration, Department of Commerce.

SUMMARY: As a result of this expedited sunset review, the U.S. Department of Commerce (Commerce) finds that revocation of the antidumping duty (AD) order on phosphor copper from the Republic of Korea (Korea) would be likely to lead to continuation or recurrence of dumping at levels identified in the “Final Results of Sunset Review” section of this notice.

DATES: Applicable July 7, 2022.

FOR FURTHER INFORMATION CONTACT: Jolanta Lawska, AD/CVD Operations, Office III, Enforcement and Compliance, International Trade Administration, U.S. Department of Commerce, 1401 Constitution Avenue NW, Washington, DC 20230; telephone: (202) 482- 8362.

SUPPLEMENTARY INFORMATION:

Background

On April 24, 2017, Commerce published the AD order on phosphor copper from Korea.¹ On March 1, 2022, Commerce published the Initiation Notice of the first sunset review of the Order, pursuant to section 751(c)(2) of the Tariff Act of 1930, as amended (the Act).² On March 8, 2022, Commerce received a notice of intent to participate in the sunset review from Metallurgical Products Company (the domestic interested party), filed in proper form, within the deadline specified in 19 CFR 351.218(d)(1)(i).³ The domestic interested party claimed interested party status pursuant to section 771(9)(C) of the Act as a manufacturer in the United States of the domestic like product.⁴

¹ See Phosphor Copper From the Republic of Korea: Antidumping Duty Order, 82 FR 18893 (April 24, 2017) (Order).

² See Initiation of Five-Year (Sunset) Review, 87 FR 11416 (March 1, 2022) (Initiation Notice).

³ See Domestic Interested Party's Letter, “Phosphorous Copper from Korea: Notice of Intent to Participate in Sunset Review,” dated March 8, 2022.

⁴ Id. at 2.

On March 24, 2022, the domestic interested party filed a complete substantive response within the deadline specified in 19 CFR 351.218(d)(3)(i).⁵ Commerce did not receive a substantive response from any respondent interested party with respect to this proceeding. Further, no hearing was requested. On April 20, 2022, Commerce notified the U.S. International Trade Commission of the lack of a substantive response.⁶ As a result, pursuant to section 751(c)(3)(B) of the Act and 19 CFR 351.218(e)(1)(ii)(C)(2), Commerce conducted an expedited (120-day) sunset review of the Order.

⁵ See Domestic Interested Party's Letter, “Phosphorous Copper from Korea: Substantive Response to the Notice of Initiation of Sunset Review,” March 24, 2022.

⁶ See Commerce's Letter, “Sunset Reviews Initiated on March 1, 2022,” dated April 20, 2022.

Scope of the Order

The merchandise covered by the Order is master alloys ⁷ of copper containing between five percent and 17 percent phosphorus by nominal weight, regardless of form (including but not limited to shot, pellet, waffle, ingot, or nugget), and regardless of size or weight. Subject merchandise consists predominantly of copper (by weight), and may contain other elements, including but not limited to iron (Fe), lead (Pb), or tin (Sn), in small amounts (up to one percent by nominal weight). Phosphor copper is frequently produced to JIS H2501 and ASTM B-644, Alloy 3A standards or higher; however, merchandise covered by the order includes all phosphor copper, regardless of whether the merchandise meets, fails to meet, or exceeds these standards.

⁷ A “master alloy” is a base metal, such as copper, to which a relatively high percentage of one or two other elements is added.

Merchandise covered by the Order is currently classified in the Harmonized Tariff Schedule of the United States (HTSUS) under subheading 7405.00.1000. This HTSUS subheading is provided for convenience and customs purposes; the written description of the scope of the Order is dispositive.

Analysis of Comments Received

All issues raised in this sunset review are addressed in the accompanying Issues and Decision Memorandum.⁸ A list of the topics discussed in the Issues and Decision Memorandum is attached as the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁸ See Memorandum, “Issues and Decision Memorandum for the Final Results of the First Expedited Sunset Review of the Antidumping Duty Order on Phosphor Copper from Korea,” dated concurrently with, and hereby adopted by, this notice (Issues and Decision Memorandum).

Final Results of Sunset Review

Pursuant to sections 751(c)(1) and 752(c)(1) and (3) of the Act, Commerce determines that revocation of the Order would be likely to lead to continuation or recurrence of dumping, and that the magnitude of the weighted-average dumping margin likely to prevail is up to 8.43 percent.

Administrative Protective Order

This notice also serves as the only reminder to parties subject to administrative protective order (APO) of their responsibility concerning the disposition of proprietary information disclosed under APO in accordance with 19 CFR 351.305(a). Timely written notification of the return or destruction of APO materials or conversion to judicial protective order is hereby requested. Failure to comply with the regulations and terms of an APO is a violation which is subject to sanction.

Notification to Interested Parties

We are issuing and publishing these final results and notice in accordance with sections 751(c), 752(c), and 777(i)(1) of the Act, and 19 CFR 351.221(c)(5)(ii).

Dated: June 29, 2022.
Ryan Majerus,
Deputy Assistant Secretary for Policy and Negotiations.

Appendix

I. Summary

II. Background

III. Scope of the Order

IV. History of the Order

V. Legal Framework

VI. Discussion of the Issues

1. Likelihood of Continuation or Recurrence of Dumping

2. Magnitude of the Margin of Dumping Likely to Prevail

VII. Final Results of Expedited Sunset Review

VIII. Recommendation

[FR Doc. 2022-14417 Filed 7-6-22; 8:45 am]

BILLING CODE 3510-DS-P